NUCLEAR REGULATORY COMMISSION

Draft License Renewal Interim Staff Guidance LR-ISG-2009-01

[NRC-2009-0521]

Staff Guidance Regarding Plant-Specific Aging Management Review and Aging Management Program for the Neutron-Absorber Material in the Spent Fuel Pool Associated With License Renewal Applications; Solicitation of Public Comment

AGENCY: U.S. Nuclear Regulatory Commission.

ACTION: Solicitation of Public Comment.

SUMMARY: The U.S. Nuclear Regulatory Commission (NRC) requests public comment on a proposed draft License Renewal Interim Staff Guidance, (LR-ISG) LR-ISG-2009-01, “Staff Guidance Regarding Plant-Specific Aging Management Review and Aging Management Program for Neutron-Absorbing Material in Spent Fuel Pools.” This LR-ISG provides guidance to address the potential loss of material and loss of neutron-absorbing capability in spent fuel pools during the period of extended operation. This draft LR-ISG contains a proposed aging management program that can address this issue. The draft LR-ISG is located in the Agencywide Documents Access and Management System (ADAMS) ML091590539.

DATES: Comments may be submitted by December 31, 2009. Comments received after this date will be considered, if it is practical to do so, but the Commission is able to ensure consideration only for comments received on or before this date.

ADDRESSES: You may submit comments by any one of the following methods. Please include Docket ID NRC-2009-0521 in the subject line of your comments. Comments submitted in writing or in electronic form will be posted on the NRC website and on the Federal rulemaking website Regulations.gov. Because your comments will not be edited to remove any identifying or contact information, the NRC cautions you against including any information in your submission that you do not want to be publicly disclosed.

The NRC requests that any party soliciting or aggregating comments received from other persons for submission to the NRC inform those persons that the NRC will not edit their comments to remove any identifying or contact information, and therefore, they should not include any information in their comments that they do not want publicly disclosed.

Federal Rulemaking Web site: Go to http://www.regulations.gov and search for documents filed under Docket ID NRC-2009-0521. Address questions about NRC dockets to Carol Gallagher 301-492-3668; e-mail Carol.Gallagher@nrc.gov.

Mail comments to: Michael T. Lesar, Chief, Rulemaking and Directives Branch (RDB), Division of Administrative Services, Office of Administration, Mail Stop: TWB-05-B01M, U.S. Nuclear Regulatory Commission, Washington, DC 20555-0001, or by fax to RDB at (301) 492-3446.

You can access publicly available documents related to this notice using the following methods:

NRC's Public Document Room (PDR): The public may examine and have copied for a fee publicly available documents at the NRC's PDR, Public File Area O1 F21, One White Flint North, 11555 Rockville Pike, Rockville, Maryland.

NRC's Agencywide Documents Access and Management System (ADAMS): Publicly available documents created or received at the NRC are available electronically at the NRC's Electronic Reading Room at http://www.nrc.gov/reading-rm/adams.html. From this page, the public can gain entry into ADAMS, which provides text and image files of NRC's public documents. If you do not have access to ADAMS or if there are problems in accessing the documents located in ADAMS, contact the NRC's PDR reference staff at 1-800-397-4209, 301-415-4737, or by e-mail to pdr.resource@nrc.gov.

Federal Rulemaking Web site: Public comments and supporting materials related to this notice can be found at http://www.regulations.gov by searching on Docket ID: NRC-2009-0521.

FOR FURTHER INFORMATION CONTACT: Mr. Ian Spivack, Project Manager, Office of Nuclear Reactor Regulation, U.S. Nuclear Regulatory Commission, Washington, DC 20555-0001; telephone 301-415-2564 or by e-mail at ian.spivack@nrc.gov.

The NRC staff is issuing this notice to solicit public comments on the proposed LR-ISG-2009-01. After the NRC staff considers any public comments, it will make a determination regarding issuance of the proposed LR-ISG.

Dated at Rockville, Maryland this 23rd day of November, 2009.
For the Nuclear Regulatory Commission.
Samson S. Lee,
Deputy Director, Division of License Renewal, Office of Nuclear Reactor Regulation.

[FR Doc. E9-28659 Filed 11-30-09; 8:45 am]

BILLING CODE 7590-01-P